DEPARTMENT OF COMMERCE

National Oceanic and Atmospheric Administration

RIN 0648-XG795

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Coastal Pelagic Species Management Team (CPSMT) and Coastal Pelagic Species Advisory Subpanel (CPSAS) will hold a meeting via webinar that is open to the public.

DATES: The webinar will be held Friday, March 1, 2019, from 1 p.m. to 3 p.m., or until business for the day has been completed.

ADDRESSES: The meeting will be held via webinar. A public listening station is available at the Pacific Council office (address below). To attend the webinar, use this link: https://www.gotomeeting .com/webinar (click “Join a Webinar” in top right corner of page). (1) Enter the Webinar ID: 463-062-003. (2) Enter your name and email address (required). You must use your telephone for the audio portion of the meeting by dialing this TOLL number: 1 (415) 930-5321. (3) Enter the Attendee phone audio access code 221-470-652. (4) Enter your audio phone pin (shown after joining the webinar). Note: We have disabled Mic/Speakers as an option and require all participants to use a telephone or cell phone to participate. Technical Information and System Requirements: PC-based attendees are required to use Windows® 10, 8, 7, Vista, or XP; Mac®-based attendees are required to use Mac OS® X 10.5 or newer; Mobile attendees are required to use iPhone®, iPad®, Android™ phone or Android tablet (see https://www.gotomeeting.com/webinar/ipad-iphone-android-webinar-apps). You may send an email to Mr. Kris Kleinschmidt at Kris.Kleinschmidt@noaa.gov or contact him at 503-820-2280, extension 411 for technical assistance.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The primary purpose of this webinar is to develop recommendations for consideration by the Pacific Council at its March 2019 meeting. The focus of the webinar will be the review of documents and technical analyses in support of the Pacific Council's proposed March 2019 agenda item, “Comments on Court Ordered Rulemaking on Harvest Specifications for the Central Subpopulation of Northern Anchovy.” The CPSMT and the CPSAS may also address assignments relating to coastal pelagic species management and ecosystem and administrative matters on the Pacific Council's March 2019 agenda. A detailed agenda for the webinar will be available on the Pacific Council's website prior to the meeting. No management actions will be decided by the CPSMT or the CPSAS.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt (kris.kleinschmidt@noaa.gov; (503) 820-2411) at least 10 days prior to the meeting date.

Dated: February 7, 2019.
Tracey L. Thompson,
Acting Deputy Director, Office of Sustainable Fisheries, National Marine Fisheries Service.

[FR Doc. 2019-02042 Filed 2-11-19; 8:45 am]

BILLING CODE 3510-22-P